EQUAL EMPLOYMENT OPPORTUNITY COMMISSION

Sunshine Act Notice

AGENCY: Equal Employment Opportunity Commission.

TIME AND DATE: Thursday, January 7, 2021, 1:00 p.m. Eastern Time.

STATUS: The meeting will be open to the public. Note: Because of the COVID-19 pandemic, the meeting will be held as an audio-only conference. The public may listen to the audio-only conference by following the instructions that will be posted on www.eeoc.gov 24 hours before the meeting. Closed captioning services will be available. The following items will be considered at the meeting:

Final Rule Updating the Commission's Conciliation Procedures

Formal Opinion Letter Concerning Individual Coverage Health Reimbursement Arrangements Under the ADEA

Final Rule Amending the Commission's Official Time Regulation for the Federal Sector

Note: In accordance with the Sunshine Act, the public will be able to listen to the Commission's deliberations and voting. (In addition to publishing notices on EEOC Commission meetings in the Federal Register, the Commission also provides information about Commission meetings on its website, www.eeoc.gov. and provides a recorded announcement a week in advance on future Commission meetings.)

Please telephone (202) 663-7100 (voice) or (202) 921-2750, or email commissionmeetingcomments@eeoc.gov at any time for information on this meeting.

CONTACT PERSON FOR MORE INFORMATION: Rachel V. See, Acting Executive Officer, (202) 921-2545.

Dated: December 31, 2020.
Rachel V. See,
Acting Executive Officer, Executive Secretariat.

[FR Doc. 2020-29286 Filed 12-31-20; 4:15 pm]

BILLING CODE 6570-01-P